DEPARTMENT OF ENERGY

Federal Energy Regulatory Commission

Combined Notice of Filings

Take notice that the Commission has received the following Natural Gas Pipeline Rate and Refund Report filings:

Docket Numbers: CP20-132-000.

Applicants: Black Hills Wyoming Gas, LLC.

Description: Application for Limited Jurisdiction Blanket Certificate of Black Hills Wyoming Gas, LLC.

Filed Date: 3/31/20.

Accession Number: 20200331-5479.

Comments Due: 5 p.m. ET 4/14/20.

Docket Numbers: RP20-773-000.

Applicants: Leaf River Energy Center LLC.

Description: § 4(d) Rate Filing: Leaf River Energy Center, LLC Tariff Update to be effective 5/6/2020.

Filed Date: 4/6/20.

Accession Number: 20200406-5124.

Comments Due: 5 p.m. ET 4/20/20.

Docket Numbers: RP20-678-001.

Applicants: Enable Gas Transmission, LLC.

Description: Tariff Amendment: Errata to EGT Fuel Tracker Filing—Effective May 1, 2020 to be effective 5/1/2020.

Filed Date: 4/7/20.

Accession Number: 20200407-5147.

Comments Due: 5 p.m. ET 4/20/20.

Docket Numbers: RP20-775-000.

Applicants: Alliance Pipeline L.P.

Description: § 4(d) Rate Filing: Negotiated Rates Cleanup—Adding K1011506 K1011507 K1011508 to be effective 11/1/2019.

Filed Date: 4/7/20.

Accession Number: 20200407-5073.

Comments Due: 5 p.m. ET 4/20/20.

Docket Numbers: RP20-776-000.

Applicants: WBI Energy Transmission, Inc.

Description: Compliance filing 2020 Compliance Filing for Abandonment of Baker Gathering Assets to be effective 4/17/2020.

Filed Date: 4/7/20.

Accession Number: 20200407-5159.

Comments Due: 5 p.m. ET 4/20/20.

Docket Numbers: RP20-777-000.

Applicants: Southern Star Central Gas Pipeline, Inc.

Description: Compliance filing Tariff Waiver- ROFR Posting.

Filed Date: 4/7/20.

Accession Number: 20200407-5197.

Comments Due: 5 p.m. ET 4/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2020.
Nathaniel J. Davis, Sr.,
Deputy Secretary.

[FR Doc. 2020-07833 Filed 4-13-20; 8:45 am]

BILLING CODE 6717-01-P